DEPARTMENT OF AGRICULTURE

Forest Service

Pacific Northwest Region; Oregon; Land Management Plan Amendment; Forest Management Direction for Large Diameter Trees in Eastern Oregon

AGENCY: Forest Service, USDA.

ACTION: Notice of approval for land management plan amendment.

SUMMARY: James Hubbard, Under Secretary for Natural Resources and Environment, United States Department of Agriculture, has signed the final Decision Notice (DN) for Forest Management Direction for Large Diameter Trees in Eastern Oregon. The DN amends the land management plans for the Deschutes, Fremont-Winema, Malheur, Ochoco, Umatilla, and Wallowa-Whitman National Forests in Oregon and southeast Washington. The DN documents the rationale for approving the amendment.

DATES: The Forest Management Direction for Large Diameter Trees in Eastern Oregon is effective immediately (36 CFR 219.17(a)(2)). To view the final DN, Finding of No Significant Impact (FONSI), environmental assessment (EA), and other related documents, please visit the Forest Service, Region 6 website at: https://www.fs.usda.gov/detail/r6/landmanagement/planning/?cid=fseprd710229.

ADDRESSES: The legal notice of approval is being published in the Baker City Herald, Bend Bulletin, Blue Mountain Eagle, East Oregonian, and the Herald and News, which are the newspapers of record for the affected national forests. A copy of the legal notices will be posted on the web page listed above.

FOR FURTHER INFORMATION CONTACT: Emily Platt, Team Leader, at SM.FS.EScreens21@usda.gov or at 541-416-6500. Individuals who use telecommunication devices for the deaf (TDD) may call the Federal Information Relay Service (FIRS) at 1-800-877-8339 between 8:00 a.m. and 8:00 p.m., Eastern Time, Monday through Friday.

SUPPLEMENTARY INFORMATION: On August 11, 2020 the USDA Forest Service Pacific Northwest Region released a proposal for a 30-day public comment period to amend land management plans on six national forests in eastern Oregon and southeastern Washington. The comment period was extended for an additional 30 days. The agency received approximately 330 unique comments as well as approximately 2,500 form letters. The forest supervisors and the interdisciplinary team considered all comments and supplemented the analysis by analyzing an additional alternative, providing additional details about cumulative effects, summarizing disturbance information in one place within the analysis, and refining the adaptive management framework.

The amendment replaces the 21-inch standard with a guideline that emphasizes recruitment of a combination of old trees and large trees. Analysis of the proposed action resulted in a finding of no significant impact on the quality of the human environment.

Responsible Official: James Hubbard, Under Secretary for Natural Resources and Enviroment, USDA. There is no opportunity to object to the Under Secretary's decision.

A decision signed by the Under Secretary for Natural Resources and Environment constitutes the final administrative determination by the U.S. Department of Agriculture (36 CFR 219.51(b)).

James E. Hubbard,
Under Secretary, Natural Resources and Environment, U.S. Department of Agriculture.

[FR Doc. 2021-00891 Filed 1-14-21; 8:45 am]

BILLING CODE 3411-15-P